ENVIRONMENTAL PROTECTION AGENCY

[FRL-8781-3]

Clean Water Act Section 303(d): Availability of List Decisions

AGENCY: Environmental Protection Agency (EPA).

ACTION: Notice of Availability and Request for Public Comment.

SUMMARY: This action announces the availability of EPA's proposed decision identifying water quality limited segments and associated pollutants in Idaho to be listed pursuant to Clean Water Act section 303(d)(2), and requests public comment. Section 303(d)(2) requires that states submit and EPA approve or disapprove lists of waters for which existing technology-based pollution controls are not stringent enough to attain or maintain state water quality standards and for which total maximum daily loads (TMDLs) must be prepared.

EPA is providing the public the opportunity to review its proposed decision to add the following 2 waters, and their associated pollutants to Idaho's 2008 section 303(d) list: the Boise River from Indian Creek to the mouth for nutrients (AU:ID17050114SW001_06) and Hem Creek for temperature (AU:ID17060307CL007_02b). EPA will consider and respond to public comments in reaching its final decision on the addition of the 2 referenced water bodies and pollutants identified for inclusion on Idaho's 2008 303(d) list.

DATES: Comments must be submitted to EPA within 30 days of the publication of this notice.

ADDRESSES: Comments on the proposed decision to add the two waters should be sent to Jill Gable, 303(d) Listing Assistant, Office of Water and Watersheds; USEPA Region 10; 1200 6th Ave., Suite 900, OWW-134; Seattle, WA 98101; telephone (206) 553-2582, facsimile (206) 553-0165, e-mail gable.jill@epa.gov. Oral comments will not be considered. Copies of the proposed decision concerning Idaho's 303(d) list which explain the rationale for EPA's proposed decision can be obtained at EPA Region 10's Web site at: http://yosemite.epa.gov/r10/water.nsf/tmdls/ID303disapproval, or by writing or calling Ms. Gable at the above address. Underlying documentation for the proposed decision to add these waters is available for public inspection at the above address and also available at EPA Region 10—Boise Operations Office, 1435 N Orchard St., Boise, ID 83706.

FOR FURTHER INFORMATION CONTACT: Jill Gable at (206) 553-2582 or gable.jill@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water quality limited waters still requiring TMDLs every two years. The lists of waters still needing TMDLs must also include priority rankings and must identify the waters targeted for TMDL development during the next two years (40 CFR 130.7). On March 31, 2000, EPA promulgated a revision to this regulation that waived the requirement for states to submit Section 303(d) lists in 2000 except in cases where a court order, consent decree, or settlement agreement required EPA to take action on a list in 2000 (65 FR 17170).

Consistent with EPA's regulations, Idaho submitted to EPA its listing decisions under Section 303(d)(2) in July 2008. On February 4, 2009, EPA partially approved and partially disapproved Idaho's 2008 303(d) list of impaired waters and associated pollutants. EPA partially approved Idaho's listing of 929 waterbodies still requiring TMDLS but disapproved Idaho's decision to not list two water quality limited segments and associated pollutants: The Boise River from Indian Creek to the mouth for nutrients (AU:ID17050114SW001_06) and Hem Creek for temperature (AU:ID17060307CL007_02b). EPA identified these additional waterbodies and pollutants for inclusion on the State's 2008 section 303(d) list. EPA solicits public comment on its identification of these additional waters and associated pollutants for inclusion on Idaho's 2008 Section 303(d) list.

Dated: March 5, 2009.
Michael A. Bussell,
Director, Water Division, EPA Region X.

[FR Doc. E9-6605 Filed 3-24-09; 8:45 am]

BILLING CODE 6560-50-P